DEPARTMENT OF LABOR

Employment and Training Administration

Notice of Availability of Funds and Funding Opportunity Announcement for the National Farmworker Jobs Program (NFJP) Employment and Training Grants and Housing Assistance Grants

AGENCY: Employment and Training Administration, Labor.

ACTION: Notice of Funding Opportunity Announcement (FOA).

Funding Opportunity Number: FOA-ETA-16-02.

SUMMARY: The Employment and Training Administration (ETA), U.S. Department of Labor (DOL, or the Department, or we), announces the availability of approximately $81,402,000 in grant funds authorized by the Workforce Innovation and Opportunity Act (WIOA) Section 167 for National Farmworker Jobs Program (NFJP) Employment and Training Grants and Housing Assistance Grants.

This Announcement solicits applications for the National Farmworker Jobs Program (NFJP) Employment and Training Grants and Housing Assistance Grants. The purpose of this program is to assist eligible Migrant and Seasonal Farmworkers (MSFWs) and their dependents, including youth MSFWs, receive career services, training services, housing assistance services, youth services, and other related assistance services that help retain and stabilize their current agriculture jobs as well as acquire new skills they need to start careers that provide higher wages and stable, year-round employment. To support better economic outcomes for farmworkers, NFJP also works to meet a critical need for quality housing.

Of the approximately $81,402,000 available, the Department intends to award approximately $75,885,000 for Employment and Training Grants and $5,517,000 for Housing Assistance Grants. These awards will have a 4-year period of performance and will fund program years (PY) 2016-2019, that is, July 1, 2016 to June 30, 2020.

The complete FOA and any subsequent FOA amendments in connection with this funding opportunity are described in further detail on ETA's Web site at https://www.doleta.gov/grants/find_grants.cfm or on http://www.grants.gov. The Web sites provide application information, eligibility requirements, review and selection procedures, and other program requirements governing this funding opportunity.

DATES: The closing date for receipt of applications under this announcement is May 3, 2016. Applications must be received no later than 4:00 p.m. Eastern Time.

FOR FURTHER INFORMATION CONTACT: Amanda Denogean, 200 Constitution Avenue NW., Room N-4716, Washington, DC 20210; Telephone: 202-693-2838.

Jimmie Curtis is the Grant Officer for the Funding Opportunity Announcement.

Signed: March 16, 2016 in Washington, DC.
Donna Kelly,
Grant Officer, Employment and Training Administration.

[FR Doc. 2016-06612 Filed 3-23-16; 8:45 am]

BILLING CODE 4510-FN-P